Proclamation 9666 of October 31, 2017

National Adoption Month, 2017

By the President of the United States of America

A Proclamation

Every year, generous and loving families adopt thousands of children and provide them with the affection, attention, and opportunity they deserve. Adoption is a true blessing that greatly enriches the lives of parents and children alike. During National Adoption Month, we celebrate the thousands of families who have expanded through adoption, and we acknowledge the strength and resiliency of the children who are still waiting to find their forever home.

My Administration recognizes the profound importance of adoption for the American family. Adoption is a life-changing and life-affirming act that signals that no child in America—born or unborn—is unwanted or unloved. Adoptive parents are a selfless and loving part of God's plan for their future children. As a Nation, we extend sincere appreciation and gratitude to those families who have welcomed a young person into their hearts and homes, sharing the precious gift of family and a lifetime of support.

We must continue to remove barriers to adoption whenever we can, so that the love and care of prospective adoptive parents can be directed to children waiting for their permanent homes. This year's National Adoption Month, we focus on our commitment to helping older youth experience the transformative value of permanency and love. A child is never too old for adoption. A supportive family can provide the critical direction that older children need as they enter adulthood, helping them attain educational and employment goals, and, in certain cases, avoid homelessness or incarceration. We never outgrow the need for family, and older youth who are adopted are more likely to finish high school and feel emotionally secure than those who age out of foster care without a permanent family.

This month, let us celebrate the gift of adoption—an act of love that provides deserving young people with the foundation they need to achieve their potential and pursue the American Dream.

NOW, THEREFORE, I, DONALD J. TRUMP, President of the United States of America, by virtue of the authority vested in me by the Constitution and the laws of the United States, do hereby proclaim November 2017 as National Adoption Month. I encourage all Americans to observe this month by helping children in need of a permanent home secure a more promising future with a forever family, so they may enter adulthood with the love we all deserve.

IN WITNESS WHEREOF, I have hereunto set my hand this thirty-first day of October, in the year of our Lord two thousand seventeen, and of the Independence of the United States of America the two hundred and forty-second.

[FR Doc. 2017-24289

Filed 11-3-17; 11:15 am]

Billing code 3295-F8-P